DEPARTMENT OF TRANSPORTATION

National Highway Traffic Safety Administration

49 CFR Part 593

[Docket No. NHTSA-2002-13349]

RIN 2127-AI79

List of Nonconforming Vehicles Decided To Be Eligible for Importation

AGENCY: National Highway Traffic Safety Administration (NHTSA), DOT.

ACTION: Final rule.

SUMMARY: This document revises the list of vehicles not originally manufactured to conform to the Federal motor vehicle safety standards that NHTSA has decided to be eligible for importation. This list is contained in an appendix to the agency's regulations that prescribe procedures for import eligibility decisions. The revised list includes all vehicles that NHTSA has decided to be eligible for importation since October 1, 2001. NHTSA is required by statute to publish this list annually in the Federal Register.

EFFECTIVE DATE: September 19, 2002.

FOR FURTHER INFORMATION CONTACT: Luke Loy, Office of Vehicle Safety Compliance, NHTSA (202-366-5308).

SUPPLEMENTARY INFORMATION: Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards. Where there is no substantially similar U.S.-certified motor vehicle, 49 U.S.C. 30141(a)(1)(B) permits a nonconforming motor vehicle to be admitted into the United States if its safety features comply with, or are capable of being altered to comply with, all applicable Federal motor vehicle safety standards based on destructive test data or such other evidence as the Secretary of Transportation decides to be adequate.

Under 49 U.S.C. 30141(a)(1), import eligibility decisions may be made “on the initiative of the Secretary of Transportation or on petition of a manufacturer or importer registered under [49 U.S.C. 30141(c)].” The Secretary's authority to make these decisions has been delegated to NHTSA. The agency publishes notice of eligibility decisions as they are made.

Under 49 U.S.C. 30141(b)(2), a list of all vehicles for which import eligibility decisions have been made must be published annually in the Federal Register. On October 1, 1996, NHTSA added the list as an appendix to 49 CFR part 593, the regulations that establish procedures for import eligibility decisions (61 FR 51242). As described in the notice, NHTSA took that action to ensure that the list is more widely disseminated to government personnel who oversee vehicle imports and to interested members of the public. See 61 FR 51242-43. In the notice, NHTSA expressed its intention to annually revise the list as published in the appendix to include any additional vehicles decided by the agency to be eligible for importation since the list was last published. See 61 FR 51243. The agency stated that issuance of the document announcing these revisions will fulfill the annual publication requirements of 49 U.S.C. “ 30141(b)(2). Ibid.

Rulemaking Analyses and Notices

1. Executive Order 12866 (Federal Regulatory Planning and Review) and DOT Regulatory Policies and Procedures

This rulemaking action was not reviewed under E.O. 12866. NHTSA has analyzed this rulemaking action and determined that it is not “significant” within the meaning of the Department of Transportation's regulatory policies and procedures.

2. Regulatory Flexibility Act

In accordance with the Regulatory Flexibility Act, NHTSA has evaluated the effects of this action on small entities. Based upon this evaluation, I certify that the revisions resulting from this rulemaking will not have a significant economic impact on a substantial number of small entities. Accordingly, the agency has not prepared a regulatory flexibility analysis.

Because this rulemaking does not impose any regulatory requirements, but merely furnishes information by revising the list in the Code of Federal Regulations of vehicles for which import eligibility decisions have been made, it has no economic impact.

3. Executive Order 12612 (Federalism)

This action has been analyzed in accordance with the principles and criteria contained in Executive Order 12612, and it has been determined that this rule does not have sufficient Federalism implications to warrant preparation of a Federalism Assessment. No State laws will be affected.

4. National Environmental Policy Act

The agency has considered the environmental implications of this rule in accordance with the National Environmental Policy Act of 1969 and determined that it will not significantly affect the human environment.

5. Paperwork Reduction Act

In accordance with the Paperwork Reduction Act of 1980, P.L. 96-511, the agency notes that there are no information collection requirements associated with this rulemaking action.

6. Civil Justice Reform

This rule does not have any retroactive effect. It does not repeal or modify any existing Federal regulations. A petition for reconsideration or other administrative proceeding will not be a prerequisite to an action seeking judicial review of this rule. This rule does not preempt the states from adopting laws or regulations on the same subject, except that it will preempt a state regulation that is in actual conflict with the Federal regulation or makes compliance with the Federal regulation impossible or interferes with the implementation of the Federal statute.

7. Notice and Comment

NHTSA finds that prior notice and opportunity for comment are unnecessary under 5 U.S.C. 553(b)(3)(B) because this action does not impose any regulatory requirements, but merely revises the list of vehicles not originally manufactured to conform to the Federal motor vehicle safety standards that NHTSA has decided to be eligible for importation into the United States to include all vehicles for which such decisions have been made since October 1, 2001.

In addition, so that the list of vehicles for which import eligibility decisions have been made may be included in the next edition of 49 CFR parts 400 to 999, which is due for revision on October 1, 2002, good cause exists to dispense with the requirement in 5 U.S.C. 553(d) for the effective date of the rule to be delayed for at least 30 days following its publication.

List of Subjects in 49 CFR Part 593

Imports, Motor vehicle safety, Motor vehicles.

In consideration of the foregoing, Part 593 of Title 49 of the Code of Federal Regulations, Determinations that a vehicle not originally manufactured to conform to the Federal Motor Vehicle Safety Standards is eligible for importation, is amended as follows:

PART 593—[AMENDED]

1. The authority citation for Part 593 continues to read as follows:

Authority: 49 U.S.C. 322 and 30141(b); delegation of authority at 49 CFR 1.50.

2. Appendix A to Part 593 is revised to read as follows:

Appendix A to Part 593—List of Vehicles Determined To Be Eligible for Importation

(a) Each vehicle on the following list is preceded by a vehicle eligibility number. The importer of a vehicle admissible under any eligibility decision must enter that number on the HS-7 Declaration Form accompanying entry to indicate that the vehicle is eligible for importation.

(1) “VSA” eligibility numbers are assigned to all vehicles that are decided to be eligible for importation on the initiative of the Administrator under Sec. 593.8.

(2) “VSP” eligibility numbers are assigned to vehicles that are decided to be eligible under Sec. 593.7(f), based on a petition from a manufacturer or registered importer submitted under Sec. 593.5(a)(1), which establishes that a substantially similar U.S.-certified vehicle exists.

(3) “VCP” eligibility numbers are assigned to vehicles that are decided to be eligible under Sec. 593.7(f), based on a petition from a manufacturer or registered importer submitted under Sec. 593.5(a)(2), which establishes that the vehicle has safety features that comply with, or are capable of being altered to comply with, all applicable Federal motor vehicle safety standards.

(b) Vehicles for which eligibility decisions have been made are listed alphabetically by make. Eligible models within each make are listed numerically by “VSA,” “VSP,” or “VCP” number.

(c) All hyphens used in the Model Year column mean “through” (for example, “1973-1989” means “1973 through 1989”).

(d) The initials “MC” used in the Manufacturer column mean “motorcycle.”

(e) The initials “SWB” used in the Model Type column mean “Short Wheel Base.”

(f) The initials “LWB” used in the Model Type column mean “Long Wheel Base.”

(g) For vehicles with a European country of origin, the term “Model Year” ordinarily means calendar year in which the vehicle was produced.

(h) All vehicles are left-hand-drive vehicles unless noted as RHD. The initials “RHD” used in the Model Type column mean “Right-Hand-Drive.”

Vehicles Certified by Their Original Manufacturer as Complying with All Applicable Canadian Motor Vehicle Safety Standards
VSA-80 | (a) All passenger cars less than 25 years old that were manufactured before September 1, 1989;
| (b) All passenger cars manufactured on or after September 1, 1989, and before September 1, 1996, that, as originally manufactured, are equipped with an automatic restraint system that complies with Federal Motor Vehicle Safety Standard (FMVSS) No. 208;
| (c) All passenger cars manufactured on or after September 1, 1996, and before September 1, 2002, that, as originally manufactured, are equipped with an automatic restraint system that complies with FMVSS No. 208, and that comply with FMVSS No. 214;
| (d) All passenger cars manufactured on or after September 1, 2002, and before September 1, 2007, that, as originally manufactured, are equipped with an automatic restraint system that complies with FMVSS No. 208, and that comply with FMVSS Nos. 201, 214, 225, and 401.
VSA-81 | (a) All multipurpose passenger vehicles, trucks, and buses with a GVWR of 4,536 kg (10,000 lb) or less that are less than 25 years old and that were manufactured before September 1, 1991;
| (b) All multipurpose passenger vehicles, trucks, and buses with a GVWR of 4,536 kg (10,000 lb) or less that were manufactured on and after September 1, 1991, and before September 1, 1993 and that, as originally manufactured, comply with FMVSS Nos. 202 and 208.
| (c) All multipurpose passenger vehicles, trucks, and buses with a GVWR of 4,536 kg (10,000 lb) or less that were manufactured on or after September 1, 1993, and before September 1, 1998, and that, as originally manufactured, comply with FMVSS Nos. 202, 208, and 216;
| (d) All multipurpose passenger vehicles, trucks, and buses with a GVWR of 4,536 kg (10,000 lb) or less that were manufactured on or after September 1, 1998, and before September 1, 2002, and that, as originally manufactured, comply with FMVSS Nos. 202, 208, 214, and 216;
| (e) All multipurpose passenger vehicles, trucks, and buses with a GVWR of 4,536 kg (10,000 lb) or less that were manufactured on or after September 1, 2002, and before September 1, 2007, and that, as originally manufactured, comply with FMVSS Nos. 201, 202, 208, 214, and 216, and, insofar as it is applicable, with FMVSS No. 225.
VSA-82 | All multipurpose passenger vehicles, trucks, and buses with a GVWR greater than 4,536 kg (10,000 lb) that are less than 25 years old.
VSA-83 | All trailers and motorcycles less than 25 years old.

Vehicles Manufactured for Other Than the Canadian Market
Manufacturer | VSP | VSA | VCP | Model type | Body | Model year
Acura | 305 |  |  | Legend |  | 1990-1992
Acura | 51 |  |  | Legend |  | 1988
Acura | 77 |  |  | Legend |  | 1989
Alfa Romeo | 196 |  |  | 164 |  | 1989
Alfa Romeo | 76 |  |  | 164 |  | 1991
Alfa Romeo | 156 |  |  | 164 |  | 1994
Alfa Romeo | 124 |  |  | GTV |  | 1985
Alfa Romeo | 70 |  |  | Spider |  | 1987
Audi | 317 |  |  | 100 |  | 1990-1992
Audi | 93 |  |  | 100 |  | 1989
Audi | 244 |  |  | 100 |  | 1993
Audi | 160 |  |  | 200 Quattro |  | 1987
Audi | 223 |  |  | 80 |  | 1988-1989
Audi | 352 |  |  | A4 |  | 1996-2000
Audi | 332 |  |  | A6 |  | 1998-1999
Audi | 337 |  |  | A8 |  | 1997-2000
Audi | 238 |  |  | Avant Quattro |  | 1996
Audi | 364 |  |  | TT |  | 2000-2001
BMW | 248 |  |  | 3 Series |  | 1995-1997
BMW | 356 |  |  | 3 Series |  | 2000
BMW | 379 |  |  | 3 Series |  | 1999, 2001
BMW |  | 66 |  | 316 |  | 1978-1982
BMW | 25 |  |  | 316 |  | 1986
BMW |  | 23 |  | 318i and 318iA |  | 1981-1989
BMW |  | 16 |  | 320, 320i, and 320iA |  | 1978-1985
BMW | 283 |  |  | 320I |  | 1990-1991
BMW |  | 67 |  | 323i |  | 1978-1985
BMW |  | 30 |  | 325, 325i, 325iA, and 325E |  | 1985-1989
BMW |  | 24 |  | 325e and 325eA |  | 1984-1987
BMW | 197 |  |  | 325i |  | 1992-1994
BMW | 96 |  |  | 325i |  | 1991
BMW |  | 31 |  | 325iS and 325iSA |  | 1987-1989
BMW | 205 |  |  | 325iX |  | 1990
BMW |  | 33 |  | 325iX and 325iXA |  | 1988-1989
BMW | 194 |  |  | 5 Series |  | 1990-1995
BMW | 249 |  |  | 5 Series |  | 1996-1997
BMW | 314 |  |  | 5 Series |  | 1998-1999
BMW | 345 |  |  | 5 Series |  | 2000
BMW | 4 |  |  | 518i |  | 1986
BMW |  | 68 |  | 520 and 520i |  | 1978-1983
BMW | 9 |  |  | 520iA |  | 1989
BMW |  | 26 |  | 524tdA |  | 1985-1986
BMW |  | 69 |  | 525 and 525i |  | 1979-1982
BMW | 5 |  |  | 525i |  | 1989
BMW |  | 21 |  | 528e and 528eA |  | 1982-1988
BMW |  | 20 |  | 528i and 528iA |  | 1979-1984
BMW |  | 15 |  | 530i and 530iA |  | 1978
BMW |  | 22 |  | 533i and 533iA |  | 1983-1984
BMW |  | 25 |  | 535i and 535iA |  | 1985-1989
BMW | 15 |  |  | 625CSi |  | 1981
BMW | 32 |  |  | 628CSi |  | 1980
BMW |  | 18 |  | 633CSi and 633CSiA |  | 1978-1984
BMW |  | 27 |  | 635, 635CSi, and 635CSiA |  | 1979-1989
BMW | 313 |  |  | 7 Series |  | 1995-1999
BMW | 366 |  |  | 7 Series |  | 1999-2001
BMW | 299 |  |  | 7 Series |  | 1990-1991
BMW | 299 |  |  | 7 Series |  | 1993-1994
BMW | 232 |  |  | 7 Series |  | 1992
BMW |  | 70 |  | 728 and 728i |  | 1978-1985
BMW | 14 |  |  | 728i |  | 1986
BMW |  | 71 |  | 730, 730i, and 730iA |  | 1978-1980
BMW | 6 |  |  | 730iA |  | 1988
BMW |  | 72 |  | 732i |  | 1980-1984
BMW |  | 19 |  | 733i and 733iA |  | 1978-1984
BMW |  | 28 |  | 735, 735i, and 735iA |  | 1980-1989
BMW |  | 73 |  | 745i |  | 1980-1986
BMW | 361 |  |  | 8 Series |  | 1991-1995
BMW |  | 78 |  | All other models except those in the M1 and Z1 series |  | 1978-1989
BMW |  | 29 |  | L7 |  | 1986-1987
BMW |  | 35 |  | M3 |  | 1988-1989
BMW |  | 34 |  | M5 |  | 1988
BMW |  | 32 |  | M6 |  | 1987-1988
BMW | 260 |  |  | Z3 |  | 1996-1998
BMW | 350 |  |  | Z8 |  | 2000-2001
BMW MC | 228 |  |  | K1 |  | 1990-1993
BMW MC | 285 |  |  | K100 |  | 1984-1992
BMW MC | 303 |  |  | K1100, K1200 |  | 1993-1998
BMW MC | 229 |  |  | K75S |  | 1987-1995
BMW MC | 231 |  |  | R1100 |  | 1994-1997
BMW MC | 368 |  |  | R1100 |  | 1998-2001
BMW MC | 177 |  |  | R1100RS |  | 1994
BMW MC | 359 |  |  | R1200C |  | 1998-2001
BMW MC | 295 |  |  | R80, R100 |  | 1986-1995
Bristol Bus |  |  | 2 | VRT Bus-Double Decker |  | 1978-1981
Cadillac | 300 |  |  | DeVille |  | 1994-1999
Cadillac | 375 |  |  | Seville |  | 1991
Chevrolet | 150 |  |  | 400SS |  | 1995
Chevrolet | 298 |  |  | Astro Van |  | 1997
Chevrolet | 349 |  |  | Blazer (plant code of “K” or “2” in the 11th position of the VIN) |  | 1997
Chevrolet | 369 |  |  | Cavalier |  | 1997
Chevrolet | 365 |  |  | Corvette |  | 1992
Chevrolet | 242 |  |  | Suburban |  | 1989-1991
Chrysler | 344 |  |  | Daytona |  | 1992
Chrysler | 373 |  |  | Grand Voyager |  | 1998
Chrysler | 276 |  |  | LHS |  | 1996
Chrysler | 216 |  |  | Shadow |  | 1989
Chrysler | 273 |  |  | Town and Country |  | 1993
Citroen |  |  | 1 | XM |  | 1990-1992
Dodge | 135 |  |  | Ram |  | 1994-1995
Ducati MC | 241 |  |  | 600SS |  | 1992-1996
Ducati MC | 220 |  |  | 748 Biposto |  | 1996-1997
Ducati MC | 201 |  |  | 900SS |  | 1990-1996
Eagle | 323 |  |  | Vision |  | 1994
Ferrari |  | 76 |  | 208, 208 Turbo (all models) |  | 1978-1988
Ferrari |  | 36 |  | 308 (all models) |  | 1978-1985
Ferrari |  | 37 |  | 328 (except GTS) |  | 1985, 1988-1989
Ferrari |  | 37 |  | 328 GTS |  | 1985-1989
Ferrari | 86 |  |  | 348 TB |  | 1992
Ferrari | 161 |  |  | 348 TS |  | 1992
Ferrari | 376 |  |  | 360 |  | 2001
Ferrari | 327 |  |  | 360 Modena |  | 1999-2000
Ferrari | 256 |  |  | 456 |  | 1995
Ferrari | 173 |  |  | 512 TR |  | 1993
Ferrari | 377 |  |  | 550 |  | 2001
Ferrari | 292 |  |  | 550 Marinello |  | 1997-1999
Ferrari | 355 |  |  | F355 |  | 1996-1998
Ferrari | 259 |  |  | F355 |  | 1995
Ferrari | 226 |  |  | F50 |  | 1995
Ferrari |  | 38 |  | GTO |  | 1985
Ferrari |  | 74 |  | Mondial (all models) |  | 1980-1989
Ferrari |  | 39 |  | Testarossa |  | 1987-1989
Ford | 265 |  |  | Bronco |  | 1995-1996
Ford | 322 |  |  | Escort (Nicaragua) |  | 1996
Ford |  |  | 9 | Escort RS |  | 1994-1995
Ford | 268 |  |  | Explorer |  | 1991-1998
Ford | 367 |  |  | Mustang |  | 1993
Ford | 250 |  |  | Windstar |  | 1995-1998
Freightliner | 179 |  |  | FLD12064ST |  | 1991-1996
Freightliner | 178 |  |  | FTLD112064SD |  | 1991-1996
GMC | 384 |  |  | Blazer |  | 1978
GMC | 383 |  |  | Jimmy |  | 1980
GMC | 134 |  |  | Suburban |  | 1992-1994
Harley Davidson | 202 |  |  | FX, FL, XL Series |  | 1978-1997
Harley Davidson | 253 |  |  | FX, FL, XL Series |  | 1998
Harley Davidson | 281 |  |  | FX, FL, XL Series |  | 1999
Harley Davidson | 321 |  |  | FX, FL, XL Series |  | 2000
Harley Davidson | 362 |  |  | FX, FL, XL Series |  | 2001
Harley Davidson | 372 |  |  | FX, FL, XL Series |  | 2002
Harley Davidson | 374 |  |  | VRSCA |  | 2002
Hobson |  |  | 8 | Horse Trailer |  | 1985
Honda | 319 |  |  | Accord |  | 1992-1999
Honda | 280 |  |  | Accord |  | 1991
Honda | 128 |  |  | Civic DX |  | 1989
Honda | 309 |  |  | Prelude |  | 1994-1997
Honda | 191 |  |  | Prelude |  | 1989
Honda MC | 106 |  |  | CB1000F |  | 1988
Honda MC | 348 |  |  | CMX250C |  | 1978-1987
Honda MC | 174 |  |  | CP450SC |  | 1986
Honda MC | 358 |  |  | RVF 400 |  | 1994-2000
Honda MC | 290 |  |  | VF750 |  | 1994-1998
Honda MC | 358 |  |  | VFR 400 |  | 1994-2000
Honda MC | 315 |  |  | VFR750 |  | 1991-1997
Honda MC | 34 |  |  | VFR750 |  | 1990
Honda MC | 315 |  |  | VFR800 |  | 1998-1999
Honda MC | 294 |  |  | VT600 |  | 1991-1998
Hyundai | 269 |  |  | Elantra |  | 1992-1995
Jaguar | 78 |  |  | Sovereign |  | 1993
Jaguar |  | 41 |  | XJ6 |  | 1978-1986
Jaguar | 47 |  |  | XJ6 |  | 1987
Jaguar | 215 |  |  | XJ6 Sovereign |  | 1988
Jaguar |  | 40 |  | XJS |  | 1980-1987
Jaguar | 195 |  |  | XJS |  | 1994-1996
Jaguar | 175 |  |  | XJS |  | 1991
Jaguar | 129 |  |  | XJS |  | 1992
Jaguar | 336 |  |  | XJS, XJ6 |  | 1988-1990
Jaguar | 330 |  |  | XK-8 |  | 1998
Jaguar Daimler | 12 |  |  | Limousine |  | 1985
Jeep | 211 |  |  | Cherokee |  | 1991
Jeep | 164 |  |  | Cherokee |  | 1992
Jeep | 254 |  |  | Cherokee |  | 1993
Jeep | 180 |  |  | Cherokee |  | 1995
Jeep | 224 |  |  | CJ-7 |  | 1979
Jeep | 382 |  |  | Grand Cherokee |  | 2001
Jeep | 389 |  |  | Grand Cherokee |  | 1997
Jeep | 217 |  |  | Wrangler |  | 1993
Jeep | 255 |  |  | Wrangler |  | 1995
Jeep | 341 |  |  | Wrangler |  | 1998
Kawasaki MC | 233 |  |  | EL250 |  | 1992-1994
Kawasaki MC | 190 |  |  | KZ550B |  | 1982
Kawasaki MC | 182 |  |  | ZX1000-B1 |  | 1988
Kawasaki MC | 222 |  |  | ZX400 |  | 1987-1997
Kawasaki MC | 312 |  |  | ZX6, ZX7, ZX9, ZX10, ZX11 |  | 1987-1999
Kawasaki MC | 288 |  |  | ZX600 |  | 1985-1998
Kawasaki MC | 247 |  |  | ZZR1100 |  | 1993-1998
Ken-Mex | 187 |  |  | T800 |  | 1990-1996
Kenworth | 115 |  |  | T800 |  | 1992
KTM MC | 363 |  |  | Duke II |  | 1995-2000
Land Rover | 212 |  |  | Defender 110 |  | 1993
Land Rover | 338 |  |  | Discovery |  | 1994-1998
Lexus | 293 |  |  | GS300 |  | 1993-1996
Lexus | 307 |  |  | RX300 |  | 1998-1999
Lexus | 225 |  |  | SC300, SC400 |  | 1991-1996
Lincoln | 144 |  |  | Mark VII |  | 1992
Magni MC | 264 |  |  | Australia, Sfida |  | 1996-1998
Maserati | 155 |  |  | Bi-Turbo |  | 1985
Mazda | 184 |  |  | MX-5 Miata |  | 1990-1993
Mazda | 199 |  |  | RX-7 |  | 1986
Mazda | 279 |  |  | RX-7 |  | 1987-1995
Mazda | 42 |  |  | RX-7 |  | 1978-1981
Mazda | 351 |  |  | Xedos 9 |  | 1995-2000
Mercedes Benz |  | 54 |  | 190 | 201.022 | 1984
Mercedes Benz |  | 54 |  | 190 D | 201.126 | 1984-1989
Mercedes Benz |  | 54 |  | 190 D (2.2) | 201.122 | 1984-1989
Mercedes Benz |  | 54 |  | 190 E | 201.028 | 1986-1989
Mercedes Benz | 22 |  |  | 190 E | 201.024 | 1990
Mercedes Benz | 45 |  |  | 190 E | 201.024 | 1991
Mercedes Benz | 71 |  |  | 190 E | 201.028 | 1992
Mercedes Benz | 126 |  |  | 190 E | 201.018 | 1992
Mercedes Benz |  | 54 |  | 190 E (2.3) | 201.024 | 1983-1989
Mercedes Benz |  | 54 |  | 190 E (2.6) | 201.029 | 1986-1989
Mercedes Benz |  | 54 |  | 190 E 2.3 16 | 201.034 | 1984-1989
Mercedes Benz |  | 52 |  | 200 | 123.220 | 1979-1985
Mercedes Benz |  | 52 |  | 200 | 123.020 | 1978-1980
Mercedes Benz |  | 55 |  | 200 | 124.020 | 1985
Mercedes Benz |  | 52 |  | 200 D | 123.120 | 1980-1982
Mercedes Benz | 17 |  |  | 200 D | 124.120 | 1986
Mercedes Benz | 11 |  |  | 200 E | 124.021 | 1989
Mercedes Benz | 109 |  |  | 200 E | 124.012 | 1991
Mercedes Benz | 75 |  |  | 200 E | 124.019 | 1993
Mercedes Benz | 3 |  |  | 200 TE | 124.081 | 1989
Mercedes Benz | 168 |  |  | 220 E |  | 1993
Mercedes Benz | 167 |  |  | 220 TE Station Wagon |  | 1993-1996
Mercedes Benz |  | 52 |  | 230 | 123.023 | 1978-1985
Mercedes Benz |  | 52 |  | 230 C | 123.043 | 1978-1980
Mercedes Benz |  | 52 |  | 230 CE | 123.243 | 1980-1984
Mercedes Benz | 84 |  |  | 230 CE | 124.043 | 1991
Mercedes Benz | 203 |  |  | 230 CE |  | 1992
Mercedes Benz |  | 52 |  | 230 E | 123.223 | 1978-1985
Mercedes Benz |  | 55 |  | 230 E | 124.023 | 1985-1987
Mercedes Benz | 1 |  |  | 230 E | 124.023 | 1988
Mercedes Benz | 20 |  |  | 230 E | 124.023 | 1989
Mercedes Benz | 19 |  |  | 230 E | 124.023 | 1990
Mercedes Benz | 74 |  |  | 230 E | 124.023 | 1991
Mercedes Benz | 127 |  |  | 230 E | 124.023 | 1993
Mercedes Benz |  | 52 |  | 230 T | 123.083 | 1978-1985
Mercedes Benz |  | 52 |  | 230 TE | 123.283 | 1978-1985
Mercedes Benz |  | 55 |  | 230 TE | 124.083 | 1985
Mercedes Benz | 2 |  |  | 230 TE | 124.083 | 1989
Mercedes Benz |  | 52 |  | 240 D | 123.123 | 1978-1985
Mercedes Benz |  | 52 |  | 240 TD | 123.183 | 1978-1985
Mercedes Benz |  | 52 |  | 250 | 123.026 | 1978-1985
Mercedes Benz | 172 |  |  | 250 D |  | 1992
Mercedes Benz | 245 |  |  | 250 E |  | 1990-1993
Mercedes Benz |  | 55 |  | 260 E | 124.026 | 1985-1989
Mercedes Benz | 105 |  |  | 260 E | 124.026 | 1992
Mercedes Benz | 18 |  |  | 260 SE | 126.020 | 1986
Mercedes Benz | 28 |  |  | 260 SE | 126.020 | 1989
Mercedes Benz |  | 52 |  | 280 | 123.030 | 1978-1985
Mercedes Benz |  | 52 |  | 280 C | 123.050 | 1978-1980
Mercedes Benz |  | 52 |  | 280 CE | 123.053 | 1978-1985
Mercedes Benz |  | 52 |  | 280 E | 123.033 | 1978-1985
Mercedes Benz | 166 |  |  | 280 E |  | 1993
Mercedes Benz |  | 53 |  | 280 S | 126.021 | 1980-1983
Mercedes Benz |  | 51 |  | 280 S | 116.020 | 1978-1980
Mercedes Benz |  | 44 |  | 280 SC | 107.022 | 1978-1981
Mercedes Benz |  | 51 |  | 280 SE | 116.024 | 1978-1988
Mercedes Benz |  | 53 |  | 280 SE | 126.022 | 1980-1985
Mercedes Benz |  | 53 |  | 280 SEL | 126.023 | 1980-1985
Mercedes Benz |  | 51 |  | 280 SEL | 116.025 | 1978-1980
Mercedes Benz |  | 44 |  | 280 SL | 107.042 | 1978-1985
Mercedes Benz |  | 52 |  | 280 TE | 123.093 | 1978-1985
Mercedes Benz |  | 52 |  | 300 CD | 123.150 | 1978-1985
Mercedes Benz |  | 55 |  | 300 CE | 124.050 | 1988-1989
Mercedes Benz | 64 |  |  | 300 CE | 124.051 | 1990
Mercedes Benz | 83 |  |  | 300 CE | 124.051 | 1991
Mercedes Benz | 117 |  |  | 300 CE | 124.050 | 1992
Mercedes Benz |  | 52 |  | 300 D | 123.133 | 1978-1985
Mercedes Benz |  | 52 |  | 300 D | 123.130 | 1978-1985
Mercedes Benz |  | 55 |  | 300 D | 124.130 | 1985-1986
Mercedes Benz |  | 55 |  | 300 D Turbo | 124.133 | 1985-1989
Mercedes Benz |  | 55 |  | 300 E | 124.030 | 1985-1989
Mercedes Benz | 114 |  |  | 300 E | 124.031 | 1992
Mercedes Benz | 192 |  |  | 300 E 4-Matic |  | 1990-1993
Mercedes Benz |  | 53 |  | 300 SD | 126.120 | 1981-1989
Mercedes Benz |  | 53 |  | 300 SE | 126.024 | 1985-1989
Mercedes Benz | 68 |  |  | 300 SE | 126.024 | 1990
Mercedes Benz |  | 53 |  | 300 SEL | 126.025 | 1986-1989
Mercedes Benz | 21 |  |  | 300 SEL | 126.025 | 1990
Mercedes Benz |  | 44 |  | 300 SL | 107.041 | 1986-1988
Mercedes Benz | 7 |  |  | 300 SL | 107.041 | 1989
Mercedes Benz | 54 |  |  | 300 SL | 129.006 | 1992
Mercedes Benz |  | 52 |  | 300 TD | 123.193 | 1978-1985
Mercedes Benz |  | 55 |  | 300 TD Turbo | 124.193 | 1986-1989
Mercedes Benz |  | 55 |  | 300 TE | 124.090 | 1986-1989
Mercedes Benz | 40 |  |  | 300 TE | 124.090 | 1990
Mercedes Benz | 193 |  |  | 300 TE |  | 1992
Mercedes Benz | 142 |  |  | 320 SL |  | 1992
Mercedes Benz | 310 |  |  | 320 CE |  | 1993
Mercedes Benz |  | 44 |  | 350 SC | 107.023 | 1978-1979
Mercedes Benz |  | 51 |  | 350 SE | 116.028 | 1978-1980
Mercedes Benz |  | 51 |  | 350 SEL | 116.029 | 1978-1980
Mercedes Benz |  | 44 |  | 350 SL | 107.043 | 1978
Mercedes Benz |  | 44 |  | 380 SC | 107.025 | 1981-1989
Mercedes Benz |  | 53 |  | 380 SE | 126.032 | 1979-1989
Mercedes Benz |  | 53 |  | 380 SE | 126.043 | 1982-1989
Mercedes Benz |  | 53 |  | 380 SEL | 126.033 | 1980-1989
Mercedes Benz |  | 44 |  | 380 SL | 107.045 | 1980-1989
Mercedes Benz | 296 |  |  | 400 SE |  | 1992-1994
Mercedes Benz | 169 |  |  | 420 E |  | 1993
Mercedes Benz |  | 53 |  | 420 SE | 126.034 | 1985-1989
Mercedes Benz | 230 |  |  | 420 SE |  | 1990-1991
Mercedes Benz | 209 |  |  | 420 SEC |  | 1990
Mercedes Benz |  | 53 |  | 420 SEL | 126.035 | 1986-1989
Mercedes Benz | 48 |  |  | 420 SEL | 126.035 | 1990
Mercedes Benz |  | 44 |  | 420 SL | 107.047 | 1986
Mercedes Benz |  | 44 |  | 450 SC | 107.024 | 1978-1989
Mercedes Benz |  | 51 |  | 450 SE | 116.032 | 1978-1980
Mercedes Benz |  | 51 |  | 450 SEL | 116.033 | 1978-1988
Mercedes Benz |  | 51 |  | 450 SEL (6.9) | 116.036 | 1978-1988
Mercedes Benz |  | 44 |  | 450 SL | 107.044 | 1978-1989
Mercedes Benz | 56 |  |  | 500 E | 124.036 | 1991
Mercedes Benz |  | 44 |  | 500 SC | 107.026 | 1978-1981
Mercedes Benz |  | 53 |  | 500 SE | 126.036 | 1980-1986
Mercedes Benz | 35 |  |  | 500 SE | 126.036 | 1988
Mercedes Benz | 154 |  |  | 500 SE |  | 1990
Mercedes Benz | 26 |  |  | 500 SE | 140.050 | 1991
Mercedes Benz |  | 53 |  | 500 SEC | 126.044 | 1981-1989
Mercedes Benz | 66 |  |  | 500 SEC | 126.044 | 1990
Mercedes Benz |  | 53 |  | 500 SEL | 126.037 | 1980-1989
Mercedes Benz | 23 |  |  | 500 SEL | 129.066 | 1989
Mercedes Benz | 153 |  |  | 500 SEL |  | 1990
Mercedes Benz | 63 |  |  | 500 SEL | 126.037 | 1991
Mercedes Benz |  | 44 |  | 500 SL | 107.046 | 1980-1989
Mercedes Benz | 33 |  |  | 500 SL | 129.066 | 1991
Mercedes Benz | 60 |  |  | 500 SL | 129.006 | 1992
Mercedes Benz |  | 53 |  | 560 SEC | 126.045 | 1986-1989
Mercedes Benz | 141 |  |  | 560 SEC | 126.045 | 1990
Mercedes Benz | 333 |  |  | 560 SEC |  | 1991
Mercedes Benz |  | 53 |  | 560 SEL | 126.039 | 1986-1989
Mercedes Benz | 89 |  |  | 560 SEL | 126.039 | 1990
Mercedes Benz |  | 44 |  | 560 SL | 107.048 | 1986-1989
Mercedes Benz |  | 43 |  | 600 | 100.012 | 1978-1981
Mercedes Benz |  | 43 |  | 600 Landaulet | 100.015 | 1978-1981
Mercedes Benz |  | 43 |  | 600 Long 4dr | 100.014 | 1978-1981
Mercedes Benz |  | 43 |  | 600 Long 6dr | 100.016 | 1978-1981
Mercedes Benz | 185 |  |  | 600 SEC Coupe |  | 1993
Mercedes Benz | 121 |  |  | 600 SL | 129.076 | 1992
Mercedes Benz |  | 77 |  | All other models except Model ID 114 and 115 with sales designations “long,” “station wagon,” or ambulance” |  | 1978-1989
Mercedes Benz | 331 |  |  | C Class |  | 1994-1999
Mercedes Benz | 370 |  |  | CL500 |  | 1999-2001
Mercedes Benz | 277 |  |  | CL500 |  | 1998
Mercedes Benz | 370 |  |  | CL600 |  | 1999-2001
Mercedes Benz | 380 |  |  | CLK |  | 1999-2001
Mercedes Benz | 357 |  |  | CLK320 |  | 1998
Mercedes Benz | 354 |  |  | E Series |  | 1991-1995
Mercedes Benz | 278 |  |  | E200 |  | 1995-1998
Mercedes Benz | 207 |  |  | E200 |  | 1994
Mercedes Benz | 168 |  |  | E220 |  | 1994-1996
Mercedes Benz | 245 |  |  | E250 |  | 1994-1995
Mercedes Benz | 166 |  |  | E280 |  | 1994-1996
Mercedes Benz | 240 |  |  | E320 |  | 1994-1998
Mercedes Benz | 318 |  |  | E320 Station Wagon |  | 1994-1999
Mercedes Benz | 169 |  |  | E420 |  | 1994-1996
Mercedes Benz | 304 |  |  | E500 |  | 1995-1997
Mercedes Benz | 163 |  |  | E500 |  | 1994
Mercedes Benz |  |  | 18 | G-Wagon |  | 1999-2000
Mercedes Benz |  |  | 3 | G-Wagon 300 | 463.228 | 1993
Mercedes Benz |  |  | 5 | G-Wagon 300 | 463.228 | 1994
Mercedes Benz |  |  | 5 | G-Wagon 300 | 463.228 | 1990-1992
Mercedes Benz |  |  | 6 | G-Wagon 320 |  | 1995
Mercedes Benz |  |  | 11 | G-Wagon 463 |  | 1996
Mercedes Benz |  |  | 15 | G-Wagon 463 |  | 1997
Mercedes Benz |  |  | 16 | G-Wagon 463 |  | 1998
Mercedes Benz |  |  | 21 | G-Wagon 463 LWB |  | 2001
Mercedes Benz |  |  | 13 | G-Wagon 463 LWB V-8 |  | 1992-1996
Mercedes Benz |  |  | 14 | G-Wagon 463 SWB |  | 1990-1996
Mercedes Benz | 342 |  |  | S Class |  | 1995-1998
Mercedes Benz | 387 |  |  | S Class | W220 | 1999-2002
Mercedes Benz | 325 |  |  | S Class |  | 1999
Mercedes Benz | 85 |  |  | S280 | 140.028 | 1994
Mercedes Benz | 236 |  |  | S320 |  | 1994
Mercedes Benz | 267 |  |  | S420 |  | 1994
Mercedes Benz | 371 |  |  | S500 |  | 2000-2001
Mercedes Benz | 235 |  |  | S500 |  | 1994
Mercedes Benz | 297 |  |  | S600 |  | 1995-1999
Mercedes Benz | 371 |  |  | S600 |  | 2000-2001
Mercedes Benz | 185 |  |  | S600 Coupe |  | 1994
Mercedes Benz | 214 |  |  | S600L |  | 1994
Mercedes Benz | 343 |  |  | SE Class |  | 1992-1994
Mercedes Benz | 343 |  |  | SEL Class |  | 1992-1994
Mercedes Benz | 329 |  |  | SL Class |  | 1993-1996
Mercedes Benz | 386 |  |  | SL Class | W129 | 1997-2000
Mercedes Benz |  |  | 19 | SL Class | R230 | 2001-2002
Mercedes Benz | 257 |  |  | SLK |  | 1997-1998
Mercedes Benz | 381 |  |  | SLK |  | 2000-2001
Mitsubishi | 13 |  |  | Galant SUP |  | 1989
Mitsubishi | 8 |  |  | Galant VX |  | 1988
Mitsubishi | 170 |  |  | Pajero |  | 1984
Moto Guzzi MC | 118 |  |  | Daytona |  | 1993
Moto Guzzi MC | 264 |  |  | Daytona RS |  | 1996-1998
Nissan | 162 |  |  | 240SX |  | 1988
Nissan | 198 |  |  | 300ZX |  | 1984
Nissan |  | 75 |  | Fairlady and Fairlady Z |  | 1978-1979
Nissan |  |  | 17 | GTS, GTR (RHD) |  | 1990-1999
Nissan | 138 |  |  | Maxima |  | 1989
Nissan | 316 |  |  | Pathfinder |  | 1987-1995
Nissan | 139 |  |  | Stanza |  | 1987
Nissan |  | 75 |  | Z and 280Z |  | 1978-1981
Peugeot |  | 65 |  | 405 |  | 1989
Plymouth | 353 |  |  | Voyager |  | 1996
Pontiac | 189 |  |  | Transport MPV |  | 1993
Porsche | 346 |  |  | 911 |  | 1997-2000
Porsche | 29 |  |  | 911 C4 |  | 1990
Porsche |  | 56 |  | 911 Cabriolet |  | 1984-1989
Porsche |  | 56 |  | 911 Carrera |  | 1978-1989
Porsche | 165 |  |  | 911 Carrera |  | 1995-1996
Porsche | 52 |  |  | 911 Carrera |  | 1992
Porsche | 165 |  |  | 911 Carrera |  | 1993
Porsche | 103 |  |  | 911 Carrera |  | 1994
Porsche |  | 56 |  | 911 Coupe |  | 1978-1989
Porsche |  | 56 |  | 911 Targa |  | 1978-1989
Porsche |  | 56 |  | 911 Turbo |  | 1978-1989
Porsche | 125 |  |  | 911 Turbo |  | 1992
Porsche | 347 |  |  | 911 Turbo |  | 2001
Porsche |  | 59 |  | 924 Coupe |  | 1978-1989
Porsche |  | 59 |  | 924 S |  | 1987-1989
Porsche |  | 59 |  | 924 Turbo Coupe |  | 1979-1989
Porsche | 266 |  |  | 928 |  | 1991-1996
Porsche | 272 |  |  | 928 |  | 1997-1998
Porsche |  | 60 |  | 928 Coupe |  | 1978-1989
Porsche |  | 60 |  | 928 GT |  | 1979-1989
Porsche |  | 60 |  | 928 S Coupe |  | 1983-1989
Porsche |  | 60 |  | 928 S4 |  | 1979-1989
Porsche | 210 |  |  | 928 S4 |  | 1990
Porsche | 97 |  |  | 944 |  | 1990
Porsche |  | 61 |  | 944 Coupe |  | 1982-1989
Porsche |  | 61 |  | 944 S Coupe |  | 1987-1989
Porsche | 152 |  |  | 944 S2 2 door Hatchback |  | 1990
Porsche |  | 61 |  | 944 Turbo Coupe |  | 1985-1989
Porsche | 116 |  |  | 946 |  | 1994
Porsche |  | 79 |  | All models except Model 959 |  | 1978-1989
Porsche | 390 |  |  | Boxster |  | 1997-2001
Porsche | 390 |  |  | Boxster (before 9/1/2002) |  | 2002
Porsche |  |  | 20 | GT2 |  | 2001
Porsche | 388 |  |  | GT2 |  | 2002
Rolls Royce | 340 |  |  | Bentley |  | 1987-1989
Rolls Royce | 186 |  |  | Bentley Brooklands |  | 1993
Rolls Royce | 258 |  |  | Bentley Continental R |  | 1990-1993
Rolls Royce | 53 |  |  | Bentley Turbo |  | 1986
Rolls Royce | 291 |  |  | Bentley Turbo R |  | 1992-1993
Rolls Royce | 243 |  |  | Bentley Turbo R |  | 1995
Rolls Royce | 122 |  |  | Camargue |  | 1984-1985
Rolls Royce | 339 |  |  | Corniche |  | 1978-1985
Rolls Royce |  | 62 |  | Silver Shadow |  | 1978-1979
Rolls Royce | 188 |  |  | Silver Spur |  | 1984
Saab | 158 |  |  | 900 |  | 1983
Saab | 270 |  |  | 900 S |  | 1987-1989
Saab | 219 |  |  | 900 SE |  | 1990-994
Saab | 219 |  |  | 900 SE |  | 1996-1997
Saab | 213 |  |  | 900 SE |  | 1995
Saab | 59 |  |  | 9000 |  | 1988
Saab | 334 |  |  | 9000 |  | 1994
Sprite |  |  | 12 | Musketeer Trailer |  | 1980
Suzuki MC | 111 |  |  | GS 850 |  | 1985
Suzuki MC | 287 |  |  | GSF 750 |  | 1996-1998
Suzuki MC | 208 |  |  | GSX 750 |  | 1983
Suzuki MC | 275 |  |  | GSXR 750 |  | 1986-1998
Suzuki MC | 227 |  |  | GSXR1100 |  | 1986-1997
Toyota | 308 |  |  | Avalon |  | 1995-1998
Toyota |  | 63 |  | Camry |  | 1987-1988
Toyota | 39 |  |  | Camry |  | 1989
Toyota |  | 64 |  | Celica |  | 1987-1988
Toyota |  | 65 |  | Corolla |  | 1987-1988
Toyota | 252 |  |  | Land Cruiser |  | 1981-1988
Toyota | 218 |  |  | Land Cruiser |  | 1990-1996
Toyota | 320 |  |  | Land Cruiser |  | 1978-1980
Toyota | 101 |  |  | Land Cruiser |  | 1989
Toyota | 324 |  |  | MR2 |  | 1990-1991
Toyota | 302 |  |  | Previa |  | 1993-1997
Toyota | 326 |  |  | Previa |  | 1991-1992
Toyota | 328 |  |  | RAV4 |  | 1996
Toyota | 200 |  |  | Van |  | 1987-1988
Triumph MC | 311 |  |  | Thunderbird |  | 1995-1999
Vespa MC | 378 |  |  | ET2, ET4 |  | 2001-2002
Volkswagen | 237 |  |  | Beetle Convertible |  | 1978-1979
Volkswagen | 306 |  |  | Eurovan |  | 1993-1994
Volkswagen | 159 |  |  | Golf |  | 1987
Volkswagen | 80 |  |  | Golf |  | 1988
Volkswagen | 92 |  |  | Golf |  | 1993
Volkswagen | 73 |  |  | Golf Rally |  | 1988
Volkswagen | 149 |  |  | GTI (Canadian) |  | 1991
Volkswagen | 274 |  |  | Jetta |  | 1994-1996
Volkswagen | 148 |  |  | Passat 4 door Sedan |  | 1992
Volkswagen |  | 42 |  | Scirocco |  | 1986
Volkswagen | 284 |  |  | Transporter |  | 1988—1989
Volkswagen | 251 |  |  | Transporter |  | 1990
Volvo | 43 |  |  | 262C |  | 1981
Volvo | 87 |  |  | 740 Sedan |  | 1988
Volvo | 286 |  |  | 850 Turbo |  | 1995—1998
Volvo | 95 |  |  | 940 GL |  | 1993
Volvo | 132 |  |  | 945 GL |  | 1994
Volvo | 176 |  |  | 960 Sedan & Wagon |  | 1994
Volvo | 335 |  |  | S70 |  | 1998—2000
Yamaha MC | 113 |  |  | FJ1200 |  | 1991
Yamaha MC | 360 |  |  | R1 |  | 2000
Yamaha MC | 171 |  |  | RD-350 |  | 1983
Yamaha MC | 301 |  |  | Virago |  | 1990—1998

Issued on September 13, 2002.
Annette M. Sandberg,
Deputy Administrator.

[FR Doc. 02-23755 Filed 9-18-02; 8:45 am]

BILLING CODE 4910-59-P